DEPARTMENT OF VETERANS AFFAIRS

[OMB Control No. 2900-0571]

Agency Information Collection Activities Under OMB Review

AGENCY: National Cemetery Administration, Department of Veterans Affairs.

ACTION: Notice.

SUMMARY: In compliance with the Paperwork Reduction Act (PRA) of 1995 (44 U.S.C. 3501-21), this notice announces that the National Cemetery Administration (NCA), Department of Veterans Affairs, has submitted the collection of information abstracted below to the Office of Management and Budget (OMB) for review and comment. The PRA submission describes the nature of the information collection and its expected cost and burden and it includes the actual data collection instrument.

DATES: Comments must be submitted on or before January 5, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0571” in any correspondence.

FOR FURTHER INFORMATION CONTACT: Denise McLamb, Initiative Coordination Service (005G1), Department of Veterans Affairs, 810 Vermont Avenue, NW., Washington, DC 20420, (202) 565-8374, fax (202) 565-7870 or e-mail denise.mclamb@mail.va.gov. Please refer to “OMB Control No. 2900-0571” in any correspondence.

SUPPLEMENTARY INFORMATION: Title: Generic Clearance for NCA and IG Customer Satisfaction Surveys.

OMB Control Number: 2900-0571.

Type of Review: Extension of a currently approved collection.

Abstract: Executive Order 12862, Setting Customer Service Standards, requires Federal agencies and Departments to identify and survey its customers to determine the kind and quality of services they want and their level of satisfaction with existing service. VA will use the data collected to maintain ongoing measures of performance and to determine how well customer service standards are met.

An agency may not conduct or sponsor, and a person is not required to respond to a collection of information unless it displays a currently valid OMB control number.The Federal Register Notice with a 60-day comment period soliciting comments on this collection of information was published on September 14, 2006 at pages 54339-54342.

Affected Public: Individuals or households, Business or Other For-Profit and State, Local or Tribal Government.

Listing of Survey Activities: The following list of activities is a compendium of customer satisfaction survey plans by the NCA and IG. The actual conduct of any particular activity listed could be affected by circumstances. A change in, or refinement of, our focus in a specific area, as well as resource constraints could require deletion or substitution of any listed item. If these organizations substitute or propose to add a new activity that falls under the umbrella of this generic approval, including those activities that are currently in a planning stage, OMB will be notified and will be furnished a copy of pertinent materials, a description of the activity and number of burden hours involved. NCA and IG will conduct periodic reviews of ongoing survey activities to ensure that they comply with the PRA.

I. National Cemetery Administration

Focus Groups with Next of Kin (10 Participants Per Group/3 Hours Each Session).

Year | Number of respondents | Estimated annual burden (hours) | Frequency
2007 | 50 | 150 | 5 Groups Annually.
2008 | 50 | 150 | 5 Groups Annually.
2009 | 50 | 150 | 5 Groups Annually.

Focus Groups with Funeral Directors (10 participants per group/3 hours each session).

Year | Number of respondents | Estimated annual burden (hours) | Frequency
2007 | 50 | 150 | 5 Groups Annually.
2008 | 50 | 150 | 5 Groups Annually.
2009 | 50 | 150 | 5 Groups Annually.

Focus Groups with Veterans Service Organizations (10 participants per group/3 hours each session).

Year | Number of respondents | Estimated annual burden (hours) | Frequency
2007 | 50 | 150 | 5 Groups Annually.
2008 | 50 | 150 | 5 Groups Annually.
2009 | 50 | 150 | 5 Groups Annually.

Visitor Comments Cards (Local Use) (2,500 respondents/5 minutes per card).

Year | Number of respondents | Estimated annual burden (hours) | Frequency
2007 | 2,500 | 208 | Annually.
2008 | 2,500 | 208 | Annually.
2009 | 2,500 | 208 | Annually.

Next of Kin National Customer Satisfaction Survey (Mail to 15,000 respondents/30 minutes per survey).

Year | Number of respondents | Estimated annual burden (hours) | Frequency
2007 | 15,000 | 7,500 | Annually.
2008 | 15,000 | 7,500 | Annually.
2009 | 15,000 | 7,500 | Annually.

Funeral Directors National Customer Satisfaction Survey (Mail to 4,000 respondents/30 minutes per survey).

Year | Number of respondents | Estimated annual burden (hours) | Frequency
2007 | 4,000 | 2,000 | Annually.
2008 | 4,000 | 2,000 | Annually.
2009 | 4,000 | 2,000 | Annually.

Veterans-At-Large National Customer Satisfaction Survey (Mail to 5,000 respondents/30 minutes per survey).

Year | Number of respondents | Estimated annual burden (hours) | Frequency
2007 | 5,000 | 2,500 | Annually.
2008 | 5,000 | 2,500 | Annually.
2009 | 5,000 | 2,500 | Annually.

Program/Specialized Service Survey (Mail to 2,000 respondents/15 minutes per each).

Year | Number of respondents | Estimated annual burden (hours) | Frequency
2007 | 2,000 | 500 | Annually.
2008 | 2,000 | 500 | Annually.
2009 | 2,000 | 500 | Annually.

II. Office of Inspector General

Community Based Outpatient Clinic Patient Survey (1,000 respondents/10 minutes per response).

Year | Number of respondents | Estimated annual burden (hours) | Frequency
2007 | 1,000 | 167 | Annually.
2008 | 1,000 | 167 | Annually.
2009 | 1,000 | 167 | Annually.

By direction of the Secretary.
Cindy Stewart,
Program Analyst, Initiative Coordination Service.

[FR Doc. E6-20685 Filed 12-5-06; 8:45 am]

BILLING CODE 8320-01-P